DEPARTMENT OF JUSTICE

Notice of Lodging of Consent Decree Under the Clean Air Act

In accordance with 28 CFR 50.7, notice is hereby given that on September 12, 2000, a proposed Consent Decree (“Decree”) in United States v. Northwestern Steel and Wire Company, Civil Action No. 00 C 3700 was lodged with the United States District Court for the Northern District of Illinois.

In this action the United States sought injunctive relief and civil penalties for alleged violations of the Clean Air Act, 42 U.S.C. § 741 et seq., and applicable regulations thereunder, including provisions of the Illinois State Implementation Plan (“SIP”) and New Source Performance Standards applicable to Northwestern Steel and Wire Company's (“NWSW's”) electric arc furnaces (“EAFs”) in Sterling, Illinois. The proposed Decree requires NWSW to achieve, demonstrate and maintain compliance with the Clean AIr Act and applicable regulations. The Decree prohibits NWSW from operating its EAF No. after August 15, 2000 unless NWSW installs pollution capture and control equipment meeting requirements for a new source and obtains applicable construction or operating permits from the Illinois Environmental Protection Agency. In addition, the Decree requires NWSW to complete emissions testing of EAF No. 8, where NWSW has substantially upgraded the EAF and associated air pollution controls, and to submit the results of this testing to U.S. EPA by January 1, 2001. The Decree also requires NWSW to comply at all times with SIP particulate and opacity requirements at EAF No. 7, except as authorized in applicable permits for the facility. Finally, the proposed Decree provides for payment of a civil penalty in the amount of $434,460 and for implementation of three Supplemental Environmental Projects (“SEPs”), including a road paving project, installation of a new baghouse dust transfer system and installation of a new electrolytic macroetching machine intended to reduce emissions of particulate matter and hydrochloric acid vapors at the facility.

The Department of Justice will receive for a period of thirty (30) days from the date of the publication comments relating to the proposed Decree. Comments should be addressed to the Assistant Attorney General, Environment and Natural Resources Division, P.O. Box 7611, U.S. Department of Justice, Washington, D.C. 20044-7611, and should refer to United States v. Northwestern Steel and Wire Company, Civil Action No. 00 C 3700, D.J. Ref. No. 90-5-2-1-2173.

The proposed Decree may be examined at the Office of the United States Attorney, 219 South Dearborn Street, Chicago, IL 60604, and at U.S. EPA Region 5, Office of Regional Counsel, 77 West Jackson Boulevard, Chicago, IL 60604. A copy of the proposed Decree may also be obtained by mail from the Consent Decree Library, P.O. Box 7611, U.S. Department of Justice, Washington, DC 20044-7611. In requesting a copy, please enclose a check in the amount of $7.00 (25 cents per page reproduction costs) payable to to the Consent Decree Library.

Bruce S. Gelber,
Principal Deputy Chief, Environmental Enforcement Section, Environment and Natural Resources Division.

[FR Doc. 00-25302 Filed 10-25-00; 8:45 am]

BILLING CODE 4410-15-M